DEPARTMENT OF ENERGY

Federal Energy Regulatory Commission

Combined Notice of Filings #1

Take notice that the Commission received the following electric corporate filings:

Docket Numbers: EC17-123-000

Applicants: American Transmission Company LLC, Wisconsin Power and Light Company.

Description: Application of American Transmission Company LLC, et. al. for Authority to Acquire Certain Facilities Under Section 203 of the FPA.

Filed Date: 5/26/17.

Accession Number: 20170526-5123.

Comments Due: 5 p.m. ET 6/16/17.

Docket Numbers: EC17-124-000.

Applicants: Alpha Willow LLC, Sagebrush Asset Holdings, LLC.

Description: Application for Authorization for Disposition of Jurisdictional Facilities, Request for Confidential Treatment, and Request for Expedited Consideration of Alpha Willow LLC, et al.

Filed Date: 5/26/17.

Accession Number: 20170526-5181.

Comments Due: 5 p.m. ET 6/16/17.

Take notice that the Commission received the following electric rate filings:

Docket Numbers: ER16-2654-003.

Applicants: City Point Energy Center, LLC.

Description: Notice of Non-Material Change in Status of City Point Energy Center, LLC.

Filed Date: 5/25/17.

Accession Number: 20170525-5319.

Comments Due: 5 p.m. ET 6/15/17.

Docket Numbers: ER17-1100-001.

Applicants: Cube Yadkin Transmission LLC.

Description: Compliance filing: Compliance Filing to be effective 3/4/2017.

Filed Date: 5/26/17.

Accession Number: 20170526-5044.

Comments Due: 5 p.m. ET 6/16/17.

Docket Numbers: ER17-1690-000.

Applicants: Southwest Power Pool, Inc.

Description: § 205(d) Rate Filing: 2855R3 KMEA & KCPL Meter Agent Agreement to be effective 6/1/2017.

Filed Date: 5/26/17.

Accession Number: 20170530-5001.

Comments Due: 5 p.m. ET 6/16/17.

Docket Numbers: ER17-1691-000.

Applicants: Southern California Edison Company.

Description: § 205(d) Rate Filing: GIA & DSA MonolithSub12kV_BESS Project SA Nos. 960-961 to be effective 5/27/2017.

Filed Date: 5/26/17.

Accession Number: 20170526-5137.

Comments Due: 5 p.m. ET 6/16/17.

Docket Numbers: ER17-1692-000.

Applicants: Southern California Edison Company.

Description: § 205(d) Rate Filing: GIA & DSA SCEBESS-003 Project SA Nos. 962-963 to be effective 5/27/2017.

Filed Date: 5/26/17.

Accession Number: 20170526-5138.

Comments Due: 5 p.m. ET 6/16/17.

Docket Numbers: ER17-1693-000.

Applicants: Portland General Electric Company.

Description: § 205(d) Rate Filing: PGE11 MBR EIM to be effective 7/26/2017.

Filed Date: 5/26/17.

Accession Number: 20170526-5189.

Comments Due: 5 p.m. ET 6/16/17.

Docket Numbers: ER17-1694-000.

Applicants: Southwest Power Pool, Inc.

Description: § 205(d) Rate Filing: 1910R10 Southwestern Public Service Company NITSA NOA to be effective 5/1/2017.

Filed Date: 5/26/17.

Accession Number: 20170526-5192.

Comments Due: 5 p.m. ET 6/16/17.

Docket Numbers: ER17-1695-000.

Applicants: Louisville Gas and Electric Company.

Description: § 205(d) Rate Filing: Amended and Restated EEI Interconnection Agreement to be effective 7/26/2017.

Filed Date: 5/26/17.

Accession Number: 20170526-5207.

Comments Due: 5 p.m. ET 6/16/17.

Docket Numbers: ER17-1696-000.

Applicants: San Diego Gas & Electric Company.

Description: Sixth Annual Informational Filing [Cycle 6] of Fourth Transmission Owner Rate Formula rate mechanism of San Diego Gas & Electric Company.

Filed Date: 5/26/17.

Accession Number: 20170526-5210.

Comments Due: 5 p.m. ET 6/16/17.

Docket Numbers: ER17-1697-000.

Applicants: Kentucky Utilities Company.

Description: § 205(d) Rate Filing: Concurrence to Amd and Restated EEI IA to be effective 7/26/2017.

Filed Date: 5/26/17.

Accession Number: 20170526-5211.

Comments Due: 5 p.m. ET 6/16/17.

Docket Numbers: ER17-1698-000.

Applicants: Citizens Sunrise Transmission LLC.

Description: § 205(d) Rate Filing: Annual Operating Cost True-Up Adjustment Informational Filing to be effective 6/1/2017.

Filed Date: 5/26/17.

Accession Number: 20170526-5220.

Comments Due: 5 p.m. ET 6/16/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 26, 2017.
Kimberly D. Bose,
Secretary.

[FR Doc. 2017-11533 Filed 6-2-17; 8:45 am]

BILLING CODE 6717-01-P